DEPARTMENT OF DEFENSE

Department of the Air Force

Notice of Intent To Grant Partially Exclusive Patent License

AGENCY: Department of the Air Force, Department of Defense.

ACTION: Notice of intent.

SUMMARY: Pursuant to the Bayh-Dole Act and implementing regulations, the Department of the Air Force hereby gives notice of its intent to grant a partially exclusive patent license to Tensor Networks, a S-Corporation incorporated in the state of California, having a place of business at 1289 Reamwood Ave., Ste. G, Sunnyvale, CA 94089.

DATES: Written objections must be filed no later than fifteen (15) calendar days after the date of publication of this notice.

ADDRESSES: Submit written objections to James F. McBride, Air Force Materiel Command Law Office, AFMCLO/JAZ, 2240 B Street, Area B, Building 11, Wright-Patterson AFB, OH 45433-7109; Facsimile: (937) 255-9318; or Email: afmclo.jaz.tech@us.af.mil. Include Docket ARX-210727A-PL in the subject line of the message.

FOR FURTHER INFORMATION CONTACT: James F. McBride, Air Force Materiel Command Law Office, AFMCLO/JAZ, 2240 B Street, Area B, Building 11, Wright-Patterson AFB, OH 45433-7109; Telephone: (937) 713-0229; Facsimile: (937) 255-9318; or Email: afmclo.jaz.tech@us.af.mil.

SUPPLEMENTARY INFORMATION: The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Abstract of Patents and Patent Application(s)

A new apparatus and method for tracking a moving object with a moving camera provides a real-time, narrow fieldof-view, high resolution and on target image by combining commanded motion with an optical flow algorithm for deriving motion and classifying background. Commanded motion means that movement of the pan, tilt and zoom (PTZ) unit is “commanded” by a computer, instead of being observed by the camera, so that the pan, tilt and zoom parameters are known, as opposed to having to be determined, significantly reducing the computational requirements for tracking a moving object. The present invention provides a single camera pan and tilt system where the known pan and tilt rotations are used to calculate predicted optical flow points in sequential images, so that resulting apparent movement can be subtracted from the movement determined by an optical flow algorithm to determine actual movement, following by use of a Kalman filter algorithm to predict subsequent locations of a determined moving object and command the pan and tilt unit to point the camera in that direction.

Intellectual Property

U.S. Patent No. U.S. Patent No. 9,696,404 B1, that issued on July 4, 2017, and entitled “Real-time camera tracking system using optical flow feature points.”.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Air Force Federal Register Liaison Officer.

[FR Doc. 2022-25732 Filed 11-23-22; 8:45 am]

BILLING CODE 5001-10-P